DEPARTMENT OF COMMERCE

Census Bureau

Proposed Information Collection; Comment Request; Internet Reinterview Evaluation

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 1, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Randall Neugebauer, Bureau of the Census, HQ-3H381, Washington, DC 20233; (301) 763-6883 or randall.j.neugebauer@census.gov.

SUPPLEMENTARY INFORMATION:

I. Abstract

As the 2010 Census approaches, planning for the 2020 Census is already underway. One particular area of interest for the next decade is to make the census more cost-effective and accurate. To that end, the Census Bureau will explore the use of the Internet for the 2020 Census as an alternative means for the public to respond to the census. Thus, we have established the Internet Reinterview Evaluation as a research component under the 2010 Census Program for Evaluations and Experiments (CPEX). A major goal of this evaluation, and other projects under the umbrella of the 2010 CPEX, is to assist in guiding future census design.

The main objective of the Internet Reinterview Evaluation is to estimate measurement errors, such as simple response variance and bias of responses from a census paper questionnaire compared to a census Internet questionnaire. The study will also include a mail reinterview component, which will provide additional information for estimating simple response variance. In addition to these measures, we also plan to collect metadata related to respondent usability of an Internet census questionnaire (i.e. keystroke analysis, break-off rates, completion times, etc.)

II. Method of Collection

The general methodology for this evaluation focuses on the use of a self-administered Internet reinterview. Internet reinterview data will be compared to 2010 Census paper questionnaire data for the same households to estimate gross difference rates. A similar comparison will be made for the mail reinterview to estimate gross difference rates for the paper mode. These gross difference rates will be compared to get the measurement error that arises from Internet versus census paper questionnaires.

Measurement error can arise from various sources, such as questionnaire design features and response mode. These design features include format (topic- or person-based), navigational flow (one question per screen), response category presentation (list or banked categories), visual design elements (such as item numbering and logos), and other questionnaire components. To supplement the interpretation of the survey results, laboratory data from usability and cognitive testing will be evaluated.

The reinterviews will be conducted with a sample of 2010 Census mail respondents. The 2010 Internet Reinterview Evaluation is intended to provide estimates of measurement error associated with the design and content of a self-administered census Internet questionnaire. Since the measurement error structure may differ depending on whether a respondent has only one response mode option (i.e. mail or Internet) versus having a choice between the two modes, we are testing both “push” and “choice” strategies. Thus, a sample of 2010 Census mail/paper questionnaire respondents will be invited to complete an Internet reinterview (“push” Internet), which has the same content as the 2010 paper questionnaire. A separate sample of the 2010 mail questionnaire respondents will be invited to complete a mail reinterview (“push” mail) with the same 2010 content. A third sample of the 2010 mail questionnaire respondents will be invited to complete a reinterview with the choice of mail and Internet modes (“choice” Internet/mail).

Comparing the Internet reinterview responses with 2010 Census paper questionnaire data will yield estimates of the gross difference rates for each data item. Similarly, we will compare the mail reinterview responses with 2010 Census paper questionnaire data to get estimates of the gross difference rates for the same data items. Then, we will compare the gross difference rate estimates for the two reinterviews to assess the simple response variance of the census Internet questionnaire versus the census paper questionnaire administration. In addition to this traditional approach, we are currently exploring the use of alternative analysis methods to estimate the error probabilities. We will also attempt to get an indication of the magnitude of nonresponse bias by comparing demographic characteristics of reinterview respondents and nonrespondents based on data from their 2010 Census paper responses.

The Internet and mail reinterviews will be conducted in late summer, after the 2010 Census enumeration activities have been completed in order to minimize the risk to 2010 Census data collection. However, the reinterviews will be conducted as close to the census enumeration as feasible in order to effectively compare reinterview results to the 2010 Census self-administered paper questionnaire. Reinterview results collected within the census environment should reflect a more generalizable measurement error structure for future censuses than results from a mid-decade census test. In addition, we hope to capitalize on respondents' memory of the recent census advertising to obtain a higher response to the reinterviews than would be possible in the absence of the 2010 Census environment.

The Internet reinterview contact strategy will be similar to the contact strategy that is used for the 2010 Census. Sampled households will be sent an advance letter as well as a notification letter to inform them of the survey and to provide details about how to respond online. Up to two reminder postcards/letters will also be sent.

The full implementation contact strategy that is used for the 2010 Census will be implemented for the mail reinterview and the mail/Internet choice reinterview, which includes an advance letter, initial questionnaire package, reminder postcard, and replacement questionnaire. The mail reinterview questionnaire will be identical in content to the 2010 Census mail questionnaire but will have a different title, will contain the Bureau of the Census seal (as opposed to the 2010 Census logo), and will have a `thank you' that is customized for reinterview respondents.

The Internet questionnaire is currently being developed. The Internet instrument is not intended to simply replicate the 2010 paper questionnaire in an electronic mode. Rather, the goal is to evaluate measurement error associated with an Internet questionnaire that exploits the advantages of the electronic technology, while still retaining the meaning and intent of the questions and response options from the paper form. Extensive laboratory usability testing will be conducted during the design phase. This will include qualitative research such as eye-tracking and mouse-tracing studies, key-stroke analysis, and documentation of what question(s), if any, were most susceptible to confusion or other problems.

III. Data

OMB Control Number: 0607-XXXX.

Form Number: TBD.

Type of Review: Regular submission.

Affected Public: Individuals or Households.

Estimated Number of Respondents: 262,857

Estimated Time per Response: 10 minutes.

Estimated Total Annual Burden Hours: 43,810.

Estimated Total Annual Cost: There is no cost to the respondent other than his/her time.

Respondent's Obligation: Voluntary.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 24, 2009.
Glenna Mickelson,
Management Analyst, Office of the Chief Information Officer.

[FR Doc. E9-30966 Filed 12-29-09; 8:45 am]

BILLING CODE 3510-07-P